DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2000.

Interested persons are invited to submit written comments regarding the subject matter of the investigations to the Director, Division of Trade Adjustment Assistance, at the address shown below, not later than October 2, 2000.

The petitions filed in this case are available for inspection at the Office of the Director, Division of Trade Adjustment Assistance, Employment and Training Administration, U.S. Department of Labor, Room C-5311, 200 Constitution Avenue, N.W., Washington, D.C. 20210.

Signed at Washington, D.C. this 5th day of September, 2000.
Edward A. Tomchick,
Director, Division of Trade Adjustment Assistance.

Appendix—Petitions Instituted on 09/05/2000

TA-W | Subject Firm (petitioners) | Location | Date of petition | Product(s)
38,043 | Freightliner LLC (IAM) | Portland, OR | 08/22/2000 | Trucks.
38,044 | Louisiana Pacific (Wrks) | Hines, OR | 08/17/2000 | Engineered wood products.
38,045 | Corus Tuscaloosa (Comp) | Tuscaloosa, AL | 08/03/2000 | Hot coiled rolled steel.
38,046 | Paramount Headwear, Inc. (Comp) | Dexter, MO | 08/25/2000 | Headwear.
38,047 | Rockwell Automation (IUE) | Euclid, OH | 08/25/2000 | Cabinets.
38,048 | PL Garment Finishers (Comp) | McRae, GA | 08/21/2000 | Denim jeans.
38,049 | Puget Plastics Corp (Comp) | Tualatin, OR | 08/19/2000 | Plastic molded parts.
38,050 | Shipple Ronal, Inc. (Wrks) | Long Island, NY | 08/21/2000 | Speciality chemicals.
38,051 | Burlington House Home (Comp) | Stokesdale, NC | 08/21/2000 | Comforters, bedskirts and pillow shams.
38,052 | Pulaski Furniture, Plt #2 (wrks) | Martinsville, VA | 08/22/2000 | Curio cabinets.
38,053 | Pillowtex Corp (Wrks) | Fieldale, VA | 08/22/2000 | Towels.
38,054 | Merrimac Industries (Wrks) | West Caldwell, NJ | 08/11/2000 | Power dividers.
38,055 | Natalie Knitting Mills (Wrks) | Chilhowie, VA | 08/25/2000 | Cotton sweaters.
38,056 | Beaumont Neckwear, Inc. (Wrks) | New York, NY | 08/22/2000 | Neckties.
38,057 | Corlair Corp. (Comp) | Piedmont, MO | 08/24/2000 | Vinyl zippered folders for autos.
38,058 | Kountry Kreations (Wrks) | Towanda, PA | 08/24/2000 | Dry floral products.
38,059 | Crown Vantage (Comp) | Parchment, MI | 08/25/2000 | Specialty papers.
38,060 | Garden Grow Co. (The) (Comp) | Wilsonville, OR | 08/17/2000 | Flower and vegetables seed packets.
38,061 | TRW (SVAA) | Danville, PA | 08/23/2000 | Engine valves.
38,062 | Grant Geophysical Corp (Comp) | Houston, TX | 08/08/2000 | Seismic data.
38,063 | International Lace (Comp) | Guttenberg, NJ | 08/17/2000 | Lace—embroidery.
38,064 | UFE, Inc. (Wrks) | River Falls, WI | 08/17/2000 | Injection molding.
38,065 | It's Personnal (Wrks) | New York, NY | 08/22/2000 | Ladies' sportswear.

[FR Doc. 00-24153 Filed 9-19-00; 8:45 am]

BILLING CODE 4510--30-M